DEPARTMENT OF AGRICULTURE

Forest Service

Rosemont Copper Project, Coronado National Forest, Pima County, AZ

AGENCY: Forest Service, USDA.

ACTION: Revised notice of intent to prepare an environmental impact statement.

SUMMARY: On March 13, 2008, the USDA Forest Service, Coronado National Forest, published a Notice of Intent (NOI) to prepare an environmental impact statement (EIS) for the Rosemont Copper Project (73 Federal Register 13527). This revised NOI advises the public of a change in the duration of the period during which the Forest Service will accept comments on the scope of the Rosemont Copper Project EIS. It also provides the locations for three public hearings at which oral testimony will be taken, along with written comments. All other information given in the original NOT will remain the same until further notice is given.

Public hearing dates and locations are as follows:

• May 12, 2008 in Elgin, Arizona.

• June 7, 2008 in Sahuarita, Arizona.

• June 30, 2008 in Tucson, Arizona.

DATES: The NOI published on March 13, 2008, advises the public that written and oral comments concerning the scope of the ETS analysis must be received by the Forest Service within 30 days following the date of publication of the NOI in the Federal Register. This duration of the scoping period has been extended by the Forest Service from 30 days to 120 days. Thus, the scoping period for the EIS will conclude on July 14, 2008. All written and oral public comments must be received by that date to be given full consideration during the EIS analysis.

FOR FURTHER INFORMATION CONTACT: For further information about this notice, please contact Ms. Beverley A. Everson, Team Leader, at (520) 388-8300.

Dated: April 23, 2008.
Jeanine A. Derby,
Forest Supervisor.

[FR Doc. E8-9307 Filed 4-28-08; 8:45 am]

BILLING CODE 3410-11-M